DEPARTMENT OF THE INTERIOR

National Park Service

[NPS-WASO-NAGPRA-16301; PPWOCRADN0-PCU00RP14.R50000]

Notice of Inventory Completion: University of Wisconsin-Madison, Department of Anthropology, Madison, WI, and the State Historical Society of Wisconsin, Madison, WI

AGENCY: National Park Service, Interior.

ACTION: Notice.

SUMMARY: The University of Wisconsin-Madison Department of Anthropology and the State Historical Society of Wisconsin have completed an inventory of human remains and associated funerary objects, in consultation with the appropriate Indian tribes or Native Hawaiian organizations, and have determined that there is no cultural affiliation between the human remains and associated funerary objects and any present-day Indian tribes or Native Hawaiian organizations. Representatives of any Indian tribe or Native Hawaiian organization not identified in this notice that wish to request transfer of control of these human remains and associated funerary objects should submit a written request to the University of Wisconsin-Madison Department of Anthropology. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the University of Wisconsin-Madison Department of Anthropology at the address in this notice by October 10, 2014.

ADDRESSES: Sissel Schroeder, University of Wisconsin-Madison, Department of Anthropology, 1180 Observatory Drive, 5240 Social Sciences Building, Madison, WI 53706, telephone (608) 262-0317, email sschroeder2@wisc.edu.

SUPPLEMENTARY INFORMATION: Notice is here given in accordance with the Native American Graves Protection and Repatriation Act (NAGPRA), 25 U.S.C. 3003, of the completion of an inventory of human remains and associated funerary objects under the control of the University of Wisconsin-Madison Department of Anthropology, Madison, WI and State Historical Society of Wisconsin, Madison, WI. The human remains and associated funerary objects were removed from Winnebago County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of Wisconsin-Madison (UW-Madison) Department of Anthropology professional staff in consultation with representatives of the Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Sokaogon Chippewa Community, Wisconsin; and the Stockbridge Munsee Community of Wisconsin. The Winnebago Tribe of Nebraska was invited to consult but did not send representatives.

History and Description of the Remains

In 1953, human remains representing, at minimum, 46 individuals were removed from the Reigh site in Winnebago County, WI. The Reigh site was identified decades earlier and reports of site disturbances date to the 1890s. The human remains were originally discovered when the landowner (M.C. Reigh) used heavy machinery to remove gravel from the vicinity of the site in 1953. This prompted archeological salvage excavations conducted by Hiroshi Daifuku and Warren Wittry, both of the Wisconsin Historical Society, and David Baerreis of the University of Wisconsin-Madison. The site was later disturbed and excavated by avocationals in 1956. The site is affiliated with the Old Copper Culture of the Middle Archaic Period (c.a.1000 B.C. to 3000 B.C.). The human remains have been housed at both the State Historical Society of Wisconsin and the UW-Madison Department of Anthropology since the time of excavation.

Since there were two major institutions involved in the 1953 excavations of this site, human remains and associated funerary objects are controlled by both the UW-Madison and State Historical Society of Wisconsin. The vast majority of the human remains are controlled by UW-Madison and the funerary objects by State Historical Society of Wisconsin. At the request of the Wisconsin Inter-Tribal Repatriation Committee (WITRC), the associated funerary objects have been reunited with the human remains under a loan agreement between the State Historical Society of Wisconsin and UW-Madison Department of Anthropology.

Human remains recovered from the site include nearly complete, partial, fragmentary, and cremated individuals. Many of the human remains were highly fragmentary. No known individuals were identified. There are 63 associated funerary objects. The following are in the control of State Historical Society of Wisconsin: 1 Side-notched knife/projectile point from Burial 4; 1 elk antler axe and 3 side-notched projectile points from Burial 5; 2 conical antler points (one of which is fragmentary), 2 sets of crane bills, and 1 set of headdress components that included twenty-three copper pieces from Burial 6; 1 chert projectile point and 1 white chert flake from Burial 8; 1 antler tine from Burial 10; 1 chipped stone knife, 1 worked swan ulna, 1 group of antler fragments, 1 ulna of a small mammal, and 1 group of lower leg bones of a great horned owl from Burial 11; 1 sandal soled gorget made of marine conch shell, 1 set of copper beads, and 5 shell beads from Burial 13; 1 rolled copper projectile point fragment from Burial 18; 1 chert projectile point from Burial 21; 1 conical copper point, 1 elk antler axe, 1 knife/projectile point, 3 hematite pebbles, and 2 worked swan humeri from Burial 23; 1 side-notched projectile point from Burial 25; 1 conical copper point, 1 chipped stone knife/projectile point, and 2 hematite pebbles from Burial 26; and 2 groups of fragmentary faunal bones. The following are in the control and possession of UW-Madison: 6 soil matrix samples, one each from Burial 5, Burial 6, Burial 7, Burial 9, Burial 20, and Burial 22; 2 rounded blocks of soft sandstone and 1 portion of a tortoise shell from Burial 11; 1 lot of small shell fragments from Burial 10; 1 soil matrix sample, 1 lot of shell fragments, 1 lot of charcoal, and 1 lot of small bone fragments from Burial 21; 3 bags of soil matrix and charcoal from Burial 21; 2 soil matrix samples and 1 lot of bone fragments from Burial 26; 1 lot of small land shells from a non-specific location at the site.

Determinations Made by the University of Wisconsin-Madison Department of Anthropology and the Wisconsin Historical Society

Officials of the University of Wisconsin-Madison Department of Anthropology and the State Historical Society of Wisconsin have determined that:

• Pursuant to 25 U.S.C. 3001(9), the human remains described in this notice are Native American based on an examination by a physical anthropologist and the recovery of these remains at a known Native American archeological site associated with prehistoric artifacts, recovered from a documented excavation with radiocarbon dates.

• Pursuant to 25 U.S.C. 3001(9), the human remains described in this notice represent the physical remains of 46 individuals of Native American ancestry.

• Pursuant to 25 U.S.C. 3001(3)(A), the 63 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Ho-Chunk Nation of Wisconsin and the Winnebago Tribe of Nebraska.

• Treaties, Acts of Congress, or Executive Orders, indicate that the land from which the Native American human remains and associated funerary objects were removed is the aboriginal land of the Ho-Chunk Nation of Wisconsin; Menominee Indian Tribe of Wisconsin; Stockbridge Munsee Community, Wisconsin; and the Winnebago Tribe of Nebraska.

• Pursuant to 43 CFR 10.11(c)(1), the disposition of the human remains and associated funerary objects may be to the Ho-Chunk Nation of Wisconsin; Menominee Indian Tribe of Wisconsin; Stockbridge Munsee Community, Wisconsin; and the Winnebago Tribe of Nebraska.

Additional Requestors and Disposition

Representatives of any Indian tribe or Native Hawaiian organization not identified in this notice that wish to request transfer of control of these human remains and associated funerary objects should submit a written request with information in support of the request to Sissel Schroeder, University of Wisconsin-Madison, Department of Anthropology, 1180 Observatory Drive, 5240 Social Sciences Building, Madison, WI 53706, telephone (608) 262-0317, email sschroeder2@wisc.edu by October 10, 2014. After that date, if no additional requestors have come forward, transfer of control of the human remains and associated funerary objects to the Ho-Chunk Nation of Wisconsin; Menominee Indian Tribe of Wisconsin; Stockbridge Munsee Community, Wisconsin; and the Winnebago Tribe of Nebraska may proceed.

The University of Wisconsin-Madison Department of Anthropology and the State Historical Society of Wisconsin are responsible for notifying the Ho-Chunk Nation of Wisconsin; Menominee Indian Tribe of Wisconsin; Stockbridge Munsee Community, Wisconsin; and the Winnebago Tribe of Nebraska that this notice has been published.

Dated: July 17, 2014.
Melanie O'Brien,
Acting Manager, National NAGPRA Program.

[FR Doc. 2014-21505 Filed 9-9-14; 8:45 am]

BILLING CODE 4312-50-P